CONSUMER PRODUCT SAFETY COMMISSION

[Docket No. CPSC-2012-0030]

Agency Information Collection Activities; Submission for OMB Review; Comment Request—Testing and Recordkeeping Requirements for Carpets and Rugs

AGENCY: Consumer Product Safety Commission.

ACTION: Notice.

SUMMARY: In accordance with the requirements of the Paperwork Reduction Act (“PRA”) of 1995 (44 U.S.C. chapter 35), the Consumer Product Safety Commission (“Commission” or “CPSC”) announces that the Commission has submitted to the Office of Management and Budget (“OMB”) a request for extension of approval of a collection of information associated with the Standard for the Surface Flammability of Carpets and Rugs (16 CFR part 1630) and the Standard for the Surface Flammability of Small Carpets and Rugs (16 CFR part 1631) previously approved under OMB No. 3041-0017. In the Federal Register of June 25, 2015 (80 FR 45509), the CPSC published a notice to announce the agency's intention to seek extension of approval of the collection of information. The Commission received no comments. Therefore, by publication of this notice, the Commission announces that CPSC has submitted to the OMB a request for extension of approval of that collection of information, without change.

DATES: Written comments on this request for extension of approval of information collection requirements should be submitted by November 16, 2015.

ADDRESSES: Submit comments about this request by email: OIRA_submission@omb.eop.gov or fax: 202-395-6881. Comments by mail should be sent to the Office of Information and Regulatory Affairs, Attn: OMB Desk Officer for the CPSC, Office of Management and Budget, Room 10235, 725 17th Street NW., Washington, DC 20503. In addition, written comments that are sent to OMB also should be submitted electronically at http://www.regulations.gov, under Docket No. CPSC-2012-0030.

FOR FURTHER INFORMATION CONTACT: For further information contact: Robert H. Squibb, Consumer Product Safety Commission, 4330 East West Highway, Bethesda, MD 20814; (301) 504-7815, or by email to: rsquibb@cpsc.gov.

SUPPLEMENTARY INFORMATION: CPSC has submitted the following currently approved collection of information to OMB for extension:

Title: Safety Standard for the Flammability of Carpets and Rugs and Standard for the Flammability of Small Carpets and Rugs.

OMB Number: 3041-0017.

Type of Review: Renewal of collection.

Frequency of Response: On occasion.

Affected Public: Manufacturers and importers of carpets and rugs.

Estimated Number of Respondents: 120 firms issue guarantees of compliance under the carpet and rug flammability standards. Based on information obtained from industry, the actual number of tests performed to affirm the guarantees of compliance may vary from one to 200, depending on the number of carpet styles and annual production volume. To estimate a burden, a midpoint of 100 tests per year per firm is used.

Estimated Time per Response: 2.5 hours to conduct each test, and to establish and maintain test records.

Total Estimated Annual Burden: 30,000 hours (120 firms × 100 tests × 2.5 hours).

General Description of Collection: The Standard for the Surface Flammability of Carpets and Rugs (16 CFR part 1630) and the Standard for the Surface Flammability of Small Carpets and Rugs (16 CFR part 1631) establish requirements for testing and recordkeeping for manufacturers and importers who furnish guaranties subject to the carpet and rug flammability standards.

Dated: October 9, 2015.
Todd A. Stevenson,
Secretary, Consumer Product Safety Commission.

[FR Doc. 2015-26334 Filed 10-15-15; 8:45 am]

BILLING CODE 6355-01-P